DEPARTMENT OF COMMERCE

National Oceanic and Atmospheric Administration

RIN 0648-XT02

Fisheries of the Exclusive Economic Zone Off Alaska; Catch Accounting in the Longline Catcher/Processor Pacific Cod Fishery

AGENCY: National Marine Fisheries Service (NMFS), National Oceanic and Atmospheric Administration (NOAA), Commerce.

ACTION: Notice of public workshop.

SUMMARY: NMFS announces a workshop to solicit feedback from owners and operators of longline catcher/processors (freezer longliners) engaged in the Pacific cod fisheries off Alaska. We are interested in feedback concerning improved catch accounting measures, specifically the feasibility of using motion-compensated scales for determining the weight of cod brought onboard; as well as other issues associated with improved estimation of Pacific cod catch and associated bycatch. The workshop is open to the public, but NMFS is particularly seeking participation by people who are knowledgeable about the operations of cod freezer longliners.

DATES: The public workshop will be held on Tuesday, December 1, 2009, from 10 a.m. to 1 p.m. Alaska standard time.

ADDRESSES: The workshop will be held at the Unalaska Public Library Alaskana Room, 64 Eleanor Drive, Unalaska, Alaska.

FOR FURTHER INFORMATION CONTACT: Alan Kinsolving, 928-774-4362 or Jennifer Watson, 907-586-7537.

SUPPLEMENTARY INFORMATION: The North Pacific Fishery Management Council has requested that NMFS prepare a discussion paper on improved catch accounting in the longline catcher/processor sector of the Pacific cod fishery off Alaska. Pacific cod and associated bycatch in this fishery are currently accounted for using data collected by NMFS-certified observers. Because only a portion of sets in the fishery are observed, the data from observed sets are extrapolated to estimate catch from unobserved sets and for unobserved trips. In order to improve catch and bycatch accounting in this fishery, a group representing many of the freezer-longline vessel owners, the Freezer Longline Coalition, has suggested that Pacific cod be accounted for using the weight of processed product coupled with an estimate of drop-offs (fish which are caught but that do not enter the factory) made by a NMFS-certified observer. NMFS staff believes that cod catch can best be accounted for using motion-compensated scales to weigh Pacific cod prior to processing coupled with an observer estimate of drop-offs. However, there are issues associated with available space and product quality that may make this approach less practical in this fishery than in others where the use of motion-compensated scales is required. New approaches to catch accounting may lead to increased duties for observers as well as necessitating additional work space for observers.

In order to inform the discussion paper that NMFS staff will be preparing on this issue, we seek input into the vessel-specific difficulties associated with the use of motion-compensated scales to weigh all retained cod; and issues associated with providing additional space for an observer sampling station.

This workshop is open to the public, but NMFS is particularly seeking input from people who work on freezer longliners and are familiar with vessel operations. The workshop has been timed to coincide with a period when a large number of freezer longliners will be in Dutch Harbor/Unalaska. As part of the process of gathering information on this issue, NMFS staff will be available before and after the meeting to tour individual vessels and discuss specific issues related to available space and the feasibility of weighing catch prior to processing.

Special Accommodations

The workshop will be physically accessible to people with disabilities. Requests for sign language interpretation or other auxiliary aids should be directed to Jennifer Watson, 907-586-7537, at least 10 working days prior to the meeting date.

Dated: November 18, 2009.
Alan D. Risenhoover,
Director, Office of Sustainable Fisheries, National Marine Fisheries Service.

[FR Doc. E9-28162 Filed 11-23-09; 8:45 am]

BILLING CODE 3510-22-P